DEPARTMENT OF TRANSPORTATION

Federal Highway Administration

[Docket No. FHWA-2024-0007]

Notice of Intent To Prepare a Supplemental Environmental Impact Statement for a Proposed Highway Project; Parsons, Tucker County, WV to Davis, Tucker County, WV

AGENCY: Federal Highway Administration (FHWA), Department of Transportation.

ACTION: Notice of intent to prepare a supplemental environmental impact statement.

SUMMARY: The FHWA, in coordination with the West Virginia Division of Highways (WVDOH) is issuing this Notice of Intent (NOI) to solicit comments and advise the public, agencies, and stakeholders that they intend to prepare a Supplemental Environmental Impact Statement (SEIS) for the Supplemental Final Environmental Impact Statement (SFEIS) (FHWA-WV-EIS-92-01-SD) for the 9-mile Appalachian Highway Corridor H Parsons to Davis Project in Tucker County, West Virginia. Persons and agencies who may be interested in or affected by the proposed project are encouraged to comment on the information in this NOI and the NOI Supplementary Information Document. All comments received in response to this NOI will be considered and any information presented herein may be revised in consideration of the comments.

DATES: Comments on this NOI or the NOI Supplementary Documentation must be received by March 27, 2024.

ADDRESSES: This NOI and the NOI Supplementary Information document are available in the docket referenced above at www.regulations.gov and on the project website located at https://transportation.wv.gov/highways/engineering/comment/Pages/default.aspx. The NOI and the NOI Supplementary Documentation will also be mailed upon request. All interested parties are invited to submit comments by any of the following methods:

• Online Submission: Submission of comments through the Federal eRulemaking Portal located at www.regulations.gov or the project website located at https://transportation.wv.gov/highways/engineering/comment/CorridorHParsonsToDavis;

• Physical Delivery to the following mailing address: FHWA West Virginia Division, 300 Virginia Street East, Suite 7400, Charleston, WV 25301; and

• Project website https://transportation.wv.gov/highways/engineering/comment/CorridorHParsonsToDavis.

All submissions should include the agency name and the docket number that appears in the heading of this Notice. All comments received will be posted without change to www.regulations.gov, including any personal information provided. The Draft SEIS will include a summary of the comments received.

FOR FURTHER INFORMATION CONTACT: For further information or to request addition to the project mailing list, contact Jason Workman, Director of Project Development, FHWA WV Division, 300 Virginia Street East, Suite 7400, Charleston, WV 25301 or Travis Long, Director, Technical Support Division, WV Division of Highways, 1334 Smith Street, Charleston, WV 25301.

SUPPLEMENTARY INFORMATION: The FHWA, as the lead Federal Agency, and WVDOH as joint lead agency/project sponsor, are preparing a SEIS to evaluate environmental impacts of the construction of a new highway on new alignment between Parsons, WV and Davis, WV. The SEIS will be prepared in accordance with the requirements of the National Environmental Policy Act (NEPA) of 1969, as amended (42 United States Code [U.S.C.] 4321, et seq.); Council on Environmental Quality (CEQ) regulations implementing NEPA (40 Code of Federal Regulations [CFR] 1500-1508); FHWA regulations implementing NEPA (23 CFR 771.101-771.139); and applicable Federal, State, and local laws and regulations. The SEIS will follow the same format as the original EIS (i.e., draft, final, record of decision [ROD]). Likewise, the SEIS process will continue to follow the integrated NEPA/404 process outlined in the 1994 Alignment Selection Draft Environmental Impact Statement, 1996 FEIS, and 2007 SFEIS. The 1996 FEIS, 2007 SFEIS, Alignment Resource Location Plans, and prior final NEPA documents relevant to this project will be available on the project website: https://transportation.wv.gov/highways/major-projects/Corridor-H/route/Pages/Parsons-to-Davis.aspx. Completion of the Supplemental Final Environmental Impact Statement and Amended ROD is anticipated in December of 2024.

The most recent NEPA document for the Parsons to Davis Project was a Supplemental Final Environmental Impact Statement (SFEIS) approved by FHWA on February 2, 2007 (FHWA-WV-EIS-92-01-SD). The 2007 SFEIS identified a modified Original Preferred Alternative (OPA) termed the Revised Original Preferred Alternative (ROPA) as the preferred alternative. Following FHWA approval and circulation of the 2007 SFEIS, an Amended ROD was not issued, and the proposed project was put on hold due to lack of funding.

Project Re-Initiation

The WVDOH re-initiated the Parsons to Davis Project with two public outreach workshops (August 20, 2019, and September 12, 2022) held in the project area. The WVDOH also initiated consultation with the United States Fish and Wildlife Service (USFWS), United States Forest Service (USFS), United States Department of Agriculture Natural Resources and Conservation Service (USDA NRCS), United States Army Corps of Engineers (USCOE), United States Environmental Protection Agency (USEPA), West Virginia Department of Natural Resources (WVDNR), West Virginia State Historic Preservation Office (WVSHPO), and West Virginia Department of Environmental Protection (WVDEP).

Purpose and Need for the Proposed Action

The overall purpose and need for Corridor H were established by the U.S. Congress and its Appalachian Development Highway System (ADHS) in 1965. As stated in its 2017 Technical Report (“Economic Analysis of Completing the Appalachian Development Highway System”), “The ADHS was authorized by Congress with the purpose of stimulating economic development by reducing isolation and improving access for an economically depressed region that had been largely left unserved by the interstate highway system.” That purpose was re-examined and confirmed in the 1996 approved SFEIS and ROD for the Elkins, WV to the WV/Stateline Corridor H Project. The 2007 approved Parsons to Davis SFEIS reaffirmed the purpose and need of the overall Corridor H project and identified specific purposes and needs specific to the Parsons to Davis Project. It stated:

“The Parsons to Davis Project is a component of the Appalachian Corridor H Project. As a link in that chain, it is expected to contribute to addressing needs identified in the 1996 Corridor H SFEIS”:

• Improve east-west transportation through northeastern West Virginia;

• Promote economic development in the region; and

• Preserve or improve the quality of life in the region.

In addition to these general needs for Appalachian Highway Corridor H, the 2007 SFEIS identified needs specific to the Parsons to Davis Project:

• Reduce truck traffic through the City of Thomas; and

• Improve emergency response times and access to emergency facilities.

This SEIS will also include the following objectives applicable to this SEIS that were included in the 2007 SFEIS. Those objectives were:

• To develop one or more alternatives that avoid the Blackwater Area;

• To consider a range of alternative(s), including the OPA, the Revised OPA (ROPA), and Blackwater Avoidance Alternatives as required by the Settlement Agreement; and

• To determine which alternatives will be carried forward for detailed analysis (Section II: Alternatives Analysis).

Finally, this SEIS will:

• Evaluate and compare the environmental consequences of both alternatives carried forward for detailed analysis;

• Assess whether there is a “feasible” and “prudent” alternative in the Parsons to Davis Study Area that does not “use” any land protected by section 4(f) of the Department of Transportation Act of 1966, 49 U.S.C. 303(c) (Section IV: Section 4(f) and 6(f) Analyses); and

• Identify a Preferred Alternative for the Parsons to Davis Project.

Preliminary Description of the Proposed Action and Alternatives

The Council of Environmental Quality (CEQ) regulations (40 CFR 1502.9(d)) and (FHWA regulations (23 CFR 771.130(a)) state that whenever there are changes, new information, or further developments on a project which result in significant environmental impacts not identified in the most recently distributed version of the draft or final EIS, a SEIS is necessary. Since the approval and circulation of the 2007 SFEIS, there have been many changes in the project's study area and, in the Federal and State regulatory environment which may result in significant environmental impacts not identified in the 2007 SFEIS; therefore, a new SEIS is required.

This SEIS will evaluate two alignment alternatives developed within each of two 1500-foot-wide study corridors. Study corridor one (the ROPA corridor) will include the 2007 SFEIS identified preferred alternative. The alternative alignment developed in this corridor will be referred to as the Refined ROPA (R-ROPA). Study corridor two (the Blackwater Avoidance Corridor) will be developed north of the Blackwater Avoidance corridor identified in the 2007 SFEIS. The alignment developed within this corridor will be referred to as Blackwater Avoidance Alternative 2 (BAA 2).

Each of these two alignment alternatives will be developed to a similar level of design detail to compare impacts with respect to cost, excavation quantities, network connectivity, constructability, and ability to meet general and project area purpose and need. Comparisons will be made on each of the alignment alternatives' potential impacts to the natural, cultural, and social environs. The No Action Alternative assumes no improvements besides than those planned by others or implemented as part of routine maintenance. Following this review, a preferred alternative will be selected and identified in the SDEIS.

Additional information on the alternatives, as well as maps and figures illustrating the project location, are provided in the NOI Supplementary Information document available for review in the docket established for this project and on the project website noted in the ADDRESSES section. The alternatives may be revised based on the consideration of public comments. The range of reasonable alternatives will be finalized after consideration of comments received during the comment period on this NOI and the NOI Supplementary Documentation and will be documented in the Draft EIS (DEIS).

Summary of Expected Impacts

This SEIS will evaluate the potential social, economic, and environmental impacts resulting from the implementation of the R-ROPA, BAA 2 and the No Action Alternative Including:

• Purpose and Need—Whether the alternative meets the project's general purpose and local purpose and needs;

• Community Cohesion—Whether the alternative avoids or minimizes impacts to the City of Thomas and Town of Davis's connectivity;

• Wetlands and Waters of the United States (U.S.) and/or Waters of the State of WV—Whether any build alternative would require fill and/or removal from Waters of the U.S. considered jurisdictional by the U.S. Army Corps of Engineers (USCOE) and impacts to waters considered to be jurisdictional by the WV Department of Environmental Protection;

• Section 7 Endangered Species Act—Through consultation with the USFWS, determine whether the alternatives would have any potential to impact Federally listed species;

• USFS Regional Forest Sensitive Species—Through coordination with the Monongahela National Forest, determine whether and to what extent the alternatives have the potential to impact resources identified by the USFS as Regional Forester Sensitive Species (RFSS); and

• Relocations—The build alternatives may require relocations. The WVDOH and FHWA will work with potentially impacted stakeholders and designers to reduce the number of relocations with each alternative.

The SEIS will evaluate the expected impacts and benefits to the resources identified above as well as the following other resources: land use; farmland; social and community resources; environmental justice; recreational trails; air quality; transportation; traffic noise; hazardous waste sites; and visual resources.

The level of review of the identified resources for the SEIS will be commensurate with the anticipated impacts to each resource from the proposed project, will be comparable across alternatives, and will be governed by the statutory or regulatory requirements protecting those resources. The analyses and evaluations conducted for the SEIS will identify the potential for impacts, whether the anticipated impacts would be significant and/or adverse, and whether there are appropriate environmental mitigation measures to be developed and implemented for any selected alternative.

Anticipated Permits and Other Authorizations

On-going consultation with Federal and State resource agencies will help identify resources within the project area for each alternative and address specific conditions required by those agencies for issuance of permits or approvals. Details of permits and approvals required are found in Section 5 of the NOI Supplementary Documentation (Permits and Other Authorizations Required).

Schedule for the Decision-Making Process

The project schedule will comply with 40 CFR 1501.10(a) and (b)(2) and 23 U.S.C. 139, which requires that environmental reviews and authorization decisions for major projects occur within two years (from the date of publication of the NOI to the date of issuance of the Record of Decision (ROD).

The anticipated project schedule is outlined below:

• Notice of Availability of the Draft SEIS (SDEIS): May 2024

• Public Hearing: June 2024

• End of SDEIS Comment Period: July 2024

• Issue SFEIS/ROD: December 2024

• Issue all Project Permits and Authorization Decisions: March 2025

Description of the Agency and Public Involvement (Scoping) Process

Public Involvement

The WVDOH and FHWA began re-initiation, including scoping of the Parsons to Davis Project on August 20, 2019, with a public workshop held in the vicinity of the Parsons to Davis Project area (i.e., Blackwater Falls State Park). During the workshop, WVDOH personnel presented a history of the project, maps of the preferred alternative (i.e., ROPA) identified in the 2007 SFEIS, communicated to the public that it was going to restart the project, and solicited public comments. A second public workshop was held at the same venue on September 12, 2022, to update the public on project activities since the 2019 public workshop and again solicited public comments to assist WVDOH in the identification of new issues of concern to address in its SEIS study. During the comment periods following these two public workshops, WVDOH and FHWA received over 400 separate comments on the project and its alternatives. A summary of those comments is included in this NOI's Supplementary Documentation at Section 7.2.1.1.

In addition to these public workshops, WVDOH project personnel have held and/or presented project information through formal and informal meetings with local elected and appointed public officials including Thomas and Davis City Councils; development authorities; and commissions. Additional outreach will be held in accordance with the Public Involvement and Agency Coordination Processes detailed in the NOI Supplementary Documentation (Section 7-Description of Agency and Public Scoping Process).

Agency Scoping

Since the early 1990s, the following agencies have been Cooperating Agencies on the entire Elkins, WV to the WV/VA Stateline project which includes the Parsons to Davis section: USEPA; USFWS; USFS; USCOE; USDA NRCS; US National Park Service (NPS). In addition to Federal Agencies, the following State agencies have been, and are, participants in all NEPA and NEPA related studies. The State agencies include the WVDEP and the WVDNR. Finally, the WVSHPO, Keeper of the National Register of Historic Places, and the Advisory Council for Historic Preservation are signatories of the Corridor H Section 106 Programmatic Agreement. Since the re-initiation of this project in 2019, WVDOH and FHWA have resumed coordination and consultation with each of these agencies.

Public and agency coordination for this project will follow the public involvement and resource agency coordination processes outlined in 23 U.S.C. 139. The public and agency coordination process that WVDOH and FHWA used on prior NEPA documentation development have been consistent with FHWA and resource agency regulations and policies (e.g., 23 CFR 771.111 and FHWA-HEP-15-047 DOT-VNTSC-FHWA-15-19 Synchronizing Environmental Reviews for Transportation and Other Infrastructure Projects). The SDEIS will be available for public and agency review and comment prior to the SDEIS Public Hearing.

Request for Comments Relevant to the Proposed Action

With this Notice, FHWA and WVDOH request and encourage State, Tribal, local agencies, and the public to review the NOI and the NOI Supplementary Documentation and submit comments on the proposed action. The purpose of this request is to bring relevant comments, information, and analyses to the agency's attention, as early in the process as possible, and to enable the agency to make maximum use of this information in the decision making.

The regulations implementing Executive Order 12372 regarding intergovernmental consultation on Federal programs and activities apply to this program.

(Authority: 42 U.S.C. 4321 et seq.; 23 CFR part 771).

Jeffrey S. Blanton,
Division Administrator, Federal Highway Administration.

[FR Doc. 2024-02280 Filed 2-5-24; 8:45 am]

BILLING CODE 4910-22-P